DEPARTMENT OF TRANSPORTATION

Federal Aviation Administration

14 CFR Part 39

[Docket No. 91-CE-87-AD]

RIN 2120-AA64

Airworthiness Directives; Bombardier Inc. Models DHC-6-1, DHC-6-100, DHC-6-200, and DHC-6-300 Airplanes

AGENCY: Federal Aviation Administration, DOT.

ACTION: Proposed rule; withdrawal.

SUMMARY: This document withdraws a supplemental notice of proposed rulemaking (NPRM) that would have applied to all Bombardier Inc. Models DHC-6-1, DHC-6-100, DHC-6-200, and DHC-6-300 airplanes. The NPRM would have superseded both AD 80-13-11 R2 and AD 80-03-08, which currently require repetitive inspections of the flight control rods for cracks on the above-referenced airplanes, with replacement of any cracked flight control rods. The NPRM would have required replacement of these flight control rods with improved design parts and would have reduced the need for the number of repetitions of the inspections. After evaluating all the comments received on the proposal, we have determined that, since the need for repetitive inspections is not eliminated by the replacements, the requirements of the current AD's should stand. We have not received any recent service problems regarding this subject on the affected airplanes. For these reasons, we are withdrawing the supplemental NPRM.

ADDRESSES: You may look at information related to this action at the Federal Aviation Administration (FAA), Central Region, Office of the Regional Counsel, Attention: Rules Docket No. 91-CE-87-AD, 901 Locust, Room 506, Kansas City, Missouri 64106, between 8 a.m. and 4 p.m., Monday through Friday, except holidays.

FOR FURTHER INFORMATION CONTACT: Jon Hjelm, Aerospace Engineer, FAA, New York Aircraft Certification Office, 10 Fifth Street, 3rd Floor, Valley Stream, New York 11581; telephone (516) 256-7523; facsimile (516) 568-2716.

SUPPLEMENTARY INFORMATION:

Discussion

What Action Has FAA Taken to Date?

We issued a proposal to amend part 39 of the Federal Aviation Regulations (14 CFR part 39) to include an AD that would apply to all Bombardier Inc. Models DHC-6-1, DHC-6-100, DHC-6-200, and DHC-6-300 airplanes. The proposal was published in the Federal Register as a supplemental NPRM on April 1, 1997 (62 FR 15443).

The NPRM proposed to supersede both AD 80-13-11 R2 and AD 80-03-08, which currently require repetitive inspections of the flight control rods for cracks on the above-referenced airplanes, with replacement of any cracked flight control rods. The NPRM would have required replacement of these flight control rods with improved design parts and would have reduced the need for the number of repetitions of the inspections.

Was the Public Invited To Comment?

The FAA invited interested persons to participate in the making of this amendment. The comments, in most part, reflect the public's desire to have FAA withdraw the proposal and let the current AD's stand. The reason for this is because the need for repetitive inspections is not eliminated by replacing flight control rods with improved design parts.

The FAA's Determination

What Is FAA's Final Determination on This Issue?

After re-evaluating all information related to this subject, we have determined that:

—The unsafe condition is currently addressed through AD 80-13-11 R2 and AD 80-03-08;

—Because we have not received any recent service problems regarding this subject on the affected airplanes, there is no need for the supplemental NPRM, Docket No. 91-CE-87-AD; and

—We should withdraw the supplemental NPRM.

Withdrawal of this action does not prevent us from taking or commit us to any future action.

Regulatory Impact

Does This Proposed AD Withdrawal Involve a Significant Rule or Regulatory Action?

Since this action only withdraws a proposed AD, it is not an AD and, therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, FAA withdraws the supplemental notice of proposed rulemaking, Docket No. 91-CE-87-AD, published in the Federal Register on April 1, 1997 (62 FR 15443).

Issued in Kansas City, Missouri, on November 28, 2000.
William J. Timberlake,
Acting Manager, Small Airplane Directorate, Aircraft Certification Service.

[FR Doc. 00-30947 Filed 12-4-00; 8:45 am]

BILLING CODE 4910-13-U